DEPARTMENT OF ENERGY

Federal Energy Regulatory Commission

Notice of Request To Amend License To Change Effective Date and Soliciting Comments, Motions To Intervene, and Protests

October 19, 2001.

Take notice that the following hydroelectric application has been filed with the Commission and is available for public inspection:

a. Application Type: Amendment of License.

b. Project No.: 2107-011.

c. Date Filed: October 12, 2001.

d. Applicant: Pacific Gas and Electric Company.

e. Name of Project: Poe Hydroelectric Project.

f. Location: On the North Fork Feather River in Butte County, near Pulga, California. The project includes 144 acres of lands of the Plumas National Forest.

g. Filed Pursuant to: Federal Power Act, 16 U.S.C. 791(a)-825(r).

h. Applicant Contact: Mr. Tom Jereb, Project Manager, Pacific Gas and Electric Company, P.O. Box 770000, N11D, San Francisco, CA 94177, (415) 973-9320.

i. FERC Contact: Questions about this notice can be answered by John Mudre at (202) 219-1208 or e-mail address: john.mudre@ferc.fed.us.

j. Deadline for filing comments, motions to intervene, and protests: 30 days from the issuance date of this notice.

All documents (original and eight copies) should be filed with: David P. Boergers, Secretary, Federal Energy Regulatory Commission, 888 First Street, NE, Washington, DC 20426.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

Comments, terms and conditions, motions to intervene, and protests may be filed electronically via the Internet in lieu of paper. See 18 CFR 385.2001(a)(1)(iii) and the instructions on the Commission's web site (http://www.ferc.gov) under the “e-Filing” link.

k. Pacific Gas and Electric Company (PG&E) has filed a request for a change in the effective date of the license for the Poe Hydroelectric Project from October 1, 1953 to October 26, 1953. The requested change would result in a change of the license expiration date from September 30, 2003 to October 25, 2003.

PG&E is requesting this change to ensure that its application for a new license for the project, filed October 2, 2001, will be timely filed pursuant to § 15(c)(1) of the Federal Power Act (18 U.S.C. § 808). Under the existing license effective date, the license application was due to be filed on October 1, 2001.

l. A copy of the application is on file with the Commission and is available for public inspection. This filing may also be viewed on the web at http://www.ferc.gov using the “RIMS” link—select “Docket #” and follow the instructions (call 202-208-2222 for assistance). A copy is also available for inspection and reproduction at the address in item h above.

m. Individuals desiring to be included on the Commission's mailing list should so indicate by writing to the Secretary of the Commission.

Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Any filings must bear in all capital letters the title “COMMENTS,” “PROTEST,” or “MOTION TO INTERVENE,” as applicable, and the Project Number of the particular application to which the filing refers. A copy of any motion to intervene must also be served upon each representative of the Applicant specified in the particular application.

Federal, state, and local agencies are invited to file comments on the described application. A copy of the application may be obtained by agencies directly from the applicant. If an agency does not file comments within the time specified for filing comments, it will be presumed to have no comments. One copy of an agency's comments must also be sent to the Applicant's representatives.

Linwood A. Watson, Jr.,
Acting Secretary.

[FR Doc. 01-26853 Filed 10-24-01; 8:45 am]

BILLING CODE 6717-01-P